DEPARTMENT OF THE INTERIOR

Bureau of Land Management

[MT_039_1020PB]

Notice of Public Meeting; Dakotas Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Dakotas Resource Advisory Council (RAC), North and South Dakota, meeting will be held as indicated below. Topics for discussion will include: Fort Meade NHL status, Cedar Hills Oil and Gas Overview, ND Prairie Dog plan, Fuels Management Plan Input from Sub Committee, Biological Weed Control on Leafy Spurge and Sage Grouse and other topics the council may raise. The meeting will be held August 12 & 13, 2002, at the Best Western, Dickinson, North Dakota. The session will convene at 8 a.m. on August 12.

SUPPLEMENTARY INFORMATION: The meeting is open to the public and a public comment period is set for 8 a.m. on August 12, 2002. The public may make oral statements before the Council or file written statements for the Council to consider. Depending on the number of persons wishing to make an oral statement, a per-person time limit may be established. Summary minutes of the meeting will be available for public inspection and copying.

The 15-member Council advises the Secretary of the Interior, through the Bureau of Land Management, on a variety of planning and management issues associated with public land management in the Dakotas.

FOR FURTHER INFORMATION CONTACT: Douglas Burger, Field Office Manager, North Dakota Field Office, 2933 3rd Ave W., Dickinson, North Dakota. Telephone (701) 227-7700.

Dated: May 29, 2002.
Douglas Burger,
Field Office Manager.

[FR Doc. 02-18244 Filed 7-18-02; 8:45 am]

BILLING CODE 4310-$$-P